DEPARTMENT OF TRANSPORTATION

National Highway Traffic Safety Administration

[Docket No. NHTSA-2013-0123; Notice 1]

Thor Industries, Inc., Receipt of Petition for Decision of Inconsequential Noncompliance

AGENCY: National Highway Traffic Safety Administration (NHTSA), Department of Transportation (DOT).

ACTION: Receipt of Petition.

SUMMARY: Livin' Lite RV, Inc. (Livin' Lite), a wholly owned subsidiary of Thor Industries, Inc. (Thor), has determined that certain model year Livin' Lite RV trailers manufactured between November 7, 2008 and September 10, 2013, do not fully comply with paragraph S9 of Federal Motor Vehicle Safety Standard (FMVSS) No. 110, Tire Selection and Rims and Motor Home/Recreation Vehicle Trailer Load Carrying Capacity Information for Motor Vehicles with a GVWR of 4,536 kilograms (10,000 pounds) or less and paragraph S10 of FMVSS No. 120, Tire Selection and Rims and Motor Home/Recreation Vehicle Trailer Load Carrying Capacity Information for Motor Vehicles with a GVWR of more than 4,536 kilograms (10,000 pounds). Thor has filed an appropriate report dated November 7, 2013, pursuant to 49 CFR part 573, Defect and Noncompliance Responsibility and Reports.

DATES: The closing date for comments on the petition is April 28, 2014.

ADDRESSES: Interested persons are invited to submit written data, views, and arguments on this petition. Comments must refer to the docket and notice number cited at the beginning of this notice and must be submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. Thor's Petition: Pursuant to 49 U.S.C. 30118(d) and 30120(h) (see implementing rule at 49 CFR part 556), Thor submitted a petition for an exemption from the notification and remedy requirements of 49 U.S.C. Chapter 301 on the basis that this noncompliance is inconsequential to motor vehicle safety.

This notice of receipt of Thor's petition is published under 49 U.S.C. 30118 and 30120 and does not represent any agency decision or other exercise of judgment concerning the merits of the petition.

II. RV Trailers Involved: Affected are approximately 3,465 RV trailers manufactured between November 7, 2008 and September 10, 2013. The trailer models affected are Livin' Lite model year (MY) 2008-2014 Quicksilver, MY 2009-2014 Camplite, MY 2009-2014 VRV, MY 2009-2014 Bearcat, and MY 2013-2014 Axxess.

III. Noncompliance: Thor explains that the noncompliance is that of the absence of the Cargo Carrying Capacity (CCC) label that is required by paragraph S9 of FMVSS No. 110 and paragraph S10 of FMVSS No. 120 for all motor homes and RV Trailers.

IV. Rule Text: Paragraph S9 of FMVSS No. 110 requires in pertinent part:

. . . S9.3 Each motor home and RV Trailer single stage or final stage manufacturer must affix either a motor home occupant and cargo carrying capacity (OCCC) label (Figure 3) or a RV trailer cargo carrying capacity (CCC) label (Figure 4) to its vehicles that meets the following criteria . . .

Paragraph S10 of FMVSS No. 120 requires in pertinent part:

. . . S10.4 Each motor home and RV Trailer single stage or final stage manufacturer must affix either a motor home occupant and cargo carrying capacity (OCCC) label (Figure 1) or a RV trailer cargo carrying capacity (CCC) label (Figure 2) to its vehicles that meets the following criteria . . .

V. Summary of Thor's Analyses: Thor stated its belief that the subject noncompliance is inconsequential to motor vehicle safety for the following reasons:

1. The cargo carrying capacity information displayed on the CCC label is redundant since it is also displayed on the Tire Placard Label as required by paragraph S4.3 of FMVSS No. 110.

2. Although the Tire Placard Label is not required on trailers over 10,000 lbs GVWR, Thor placed the Tire Placard Label on all trailers it produced and is located on the trailer tongue next to the Federal Certification Label.

3. The Livin' Lite Owner's manuals (which can be found on www.livinlite.com) instruct owners on the loading of their vehicle and where to find the required ratings that are displayed on the Federal Certification Label.

4. The Manufacturer's Certificate of Origin (MSO) also contains both the Gross Vehicle Weight Rating (GVWR) and the unloaded vehicle weight (UVW). The difference of these two numbers would also give the owner the available CCC of the trailer.

5. Thor had received no complaints or inquiries regarding cargo carrying capacity from any of its owners or dealers.

6. Thor also stated its belief that NHTSA has previously stated (72 FR 68442-68466, December 4, 2007) that the most important time for RV purchasers to receive the CCC information is at the point-of-sale.

Thor has additionally informed NHTSA that it has corrected the noncompliance so that all future production of these trailers will fully comply with FMVSS Nos. 110 and 120.

In summation, Thor believes that the described noncompliance of the subject trailers is inconsequential to motor vehicle safety, and that its petition, to exempt from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject noncompliant trailers that Thor no longer controlled at the time it determined that the noncompliance existed. However, any decision on this petition does not relieve trailer distributors and dealers of the prohibitions on the sale, offer for sale, or introduction or delivery for introduction into interstate commerce of the noncompliant trailers under their control after Thor notified them that the subject noncompliance existed.

Authority: (49 U.S.C. 30118, 30120: Delegations of authority at 49 CFR 1.95 and 501.8).

Jeffrey Giuseppe,
Acting Director, Office of Vehicle Safety Compliance.

[FR Doc. 2014-06923 Filed 3-27-14; 8:45 am]

BILLING CODE 4910-59-P